DEPARTMENT OF THE INTERIOR

Fish and Wildlife Service

[FWS-R8-ES-2016-N234]; [FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before February 9, 2017.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-94654B

Applicant: Mesa Biological, LLC., Bakersfield, California.

The applicant requests a new permit to take (harass by survey, capture, handle, and release) the Fresno kangaroo rat (Dipodomys nitratoides exilis), Tipton kangaroo rat (Dipodomys nitratoides nitratoides), giant kangaroo rat (Dipodomys ingens), Morro Bay kangaroo rat (Dipodomys heermanni morroensis), Pacific pocket mouse (Perognathus longimembris pacificus), Buena Vista Lake shrew (Sorex ornatus relictus), and blunt-nosed leopard lizard (Gambelia silus), in conjunction with survey activities and scientific research throughout the range of the species in California for the purpose of enhancing the species' survival.

Permit No. TE-068745

Applicant: Jeffery T. Wilcox, Vallejo, California.

The applicant requests a permit renewal and amendment to take (harass by survey, capture, handle, collect tissue samples, and release) the California tiger salamander (Santa Barbara County and Sonoma County Distinct Population Segment (DPS)) (Ambystoma californiense) in conjunction with survey and research activities throughout the range of the species in California for the purpose of enhancing the species' survival.

Permit No. TE-069534

Applicant: Victor C. Novik, San Diego, California.

The applicant requests a permit renewal to take (survey by pursuit) the Quino checkerspot butterfly (Euphydryas editha quino); and take (harass by survey, capture, handle, release, collect vouchers, and collect branchiopod cysts) the San Diego fairy shrimp (Branchinecta sandiegonensis) and Riverside fairy shrimp (Streptocephalus woottoni), in conjunction with survey activities throughout the range of the species in California for the purpose of enhancing the species' survival.

Permit No. TE-57065B

Applicant: Steven Morris, Huntington Beach, California.

The applicant requests a new permit to take (harass by survey) the southwestern willow flycatcher (Empidonax traillii extimus) in conjunction with survey activities throughout the range of the species in California for the purpose of enhancing the species' survival.

Permit No. TE-95006A

Applicant: Steven C. Chen, San Luis Obispo, California.

The applicant requests a permit renewal and amendment to take (harass by survey, capture, handle, and release) the Fresno kangaroo rat (Dipodomys nitratoides exilis), Tipton kangaroo rat (Dipodomys nitratoides nitratoides), giant kangaroo rat (Dipodomys ingens), San Bernardino Merriam's kangaroo rat (Dipodomys merriami parvus), Stephens' kangaroo rat (Dipodomys stephensi), Morro Bay kangaroo rat (Dipodomys heermanni morroensis), and California tiger salamander (Santa Barbara County and Sonoma County Distinct Population Segment (DPS)) (Ambystoma californiense); and take (survey by pursuit) the Quino checkerspot butterfly (Euphydryas editha quino), and Delhi Sands flower-loving fly (Rhaphiomidas terminatus abdominalis) in conjunction with survey activities throughout the range of the species in California for the purpose of enhancing the species' survival.

Permit No. TE-221411

Applicant: Center for Natural Lands Management, Temecula, California.

The applicant requests a permit renewal to take (harass by survey, capture, handle, mark, and release) the tidewater goby (Eucyclogobius newberryi), Tipton kangaroo rat (Dipodomys nitratoides nitratoides), giant kangaroo rat (Dipodomys ingens), San Bernardino Merriam's kangaroo rat (Dipodomys merriami parvus), Stephens' kangaroo rat (Dipodomys stephensi), and California tiger salamander (Santa Barbara County and Sonoma County Distinct Population Segment (DPS)) (Ambystoma californiense); take (survey by pursuit) the Quino checkerspot butterfly (Euphydryas editha quino); take (harass by survey, locate and monitor nests, and remove brown-headed cowbird (Molothrus ater) eggs and chicks from parasitized nests) the southwestern willow flycatcher (Empidonax traillii extimus); take (locate and monitor nests and remove brown-headed cowbird (Molothrus ater) eggs and chicks from parasitized nests) the least Bell's vireo (Vireo bellii pusillus); and remove/reduce to possession from lands under Federal jurisdiction Acanthomintha ilicifolia (San Diego thorn-mint) and Ambrosia pumila (San Diego ambrosia) in conjunction with survey, population monitoring, and research activities throughout the range of the species in California for the purpose of enhancing the species' survival.

Permit No. TE-043630

Applicant: San Francisco Estuary Institute, Richmond, California.

The applicant requests a permit renewal to take (harass by survey using taped vocalization callback, and collect non-viable eggs) the California Ridgway's rail (California clapper r.) (Rallus obsoletus obsoletus) (R. longirostris o.) in conjunction with survey and research activities throughout the range of the species in California for the purpose of enhancing the species' survival.

Permit No. TE-177979

Applicant: Allison Rudalevige, Garden Grove, California.

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-14134C

Applicant: Lawrence Travanti, Roseville, California.

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-02351A

Applicant: Timothy Searl, Hemet, California.

The applicant requests a new permit to take (harass by survey; and locate and monitor nests) the southwestern willow flycatcher (Empidonax traillii extimus); take (locate and monitor nests) least Bell's vireo (Vireo bellii pusillus); and take (harass by survey, capture, handle, and release) the San Bernardino Merriam's kangaroo rat (Dipodomys merriami parvus) and Stephens' kangaroo rat (Dipodomys stephensi) in conjunction with surveys and population monitoring activities throughout the range of the species for the purpose of enhancing the species' survival.

Permit No. TE-14532C

Applicant: Hannah Donaghe, Santa Barbara, California.

The applicant requests a new permit to take (harass by survey, capture, handle, and release) the tidewater goby (Eucyclogobius newberryi) in conjunction with survey and population monitoring activities throughout the range of the species for the purpose of enhancing the species' survival.

Permit No. TE-31406A

Applicant: California State Parks, Ventura, California.

The applicant requests a permit renewal to take (harass by survey, locate and monitor nests, install symbolic fencing, and install and use remote cameras in nesting areas) the California least tern (Sternula antillarum browni) (Sterna a. browni) in conjunction with survey and population monitoring activities throughout the range of the species in California for the purpose of enhancing the species' survival.

Permit No. TE-01768B

Applicant: Brian Karpman, Costa Mesa, California.

The applicant requests a permit renewal to take (locate and monitor nests and remove brown-headed cowbird (Molothrus ater) eggs and chicks from parasitized nests) the least Bell's vireo (Vireo bellii pusillus) in conjunction with survey and population monitoring activities throughout the range of the species in California for the purpose of enhancing the species' survival.

Permit No. TE-814222

Applicant: California Department of Parks and Recreation, San Diego, California.

The applicant requests a permit renewal to take (harass by survey, and locate and monitor nests) the California least tern (Sternula antillarum browni) (Sterna a. browni); take (harass by survey; locate and monitor nests, and remove brown-headed cowbird (Molothrus ater) eggs and chicks from parasitized nests) the southwestern willow flycatcher (Empidonax traillii extimus); and take (locate and monitor nests, and remove brown-headed cowbird (Molothrus ater) eggs and chicks from parasitized nests) the least Bell's vireo (Vireo bellii pusillus) in conjunction with survey and population monitoring activities throughout the range of the species in California for the purpose of enhancing the species' survival.

Permit No. TE-14554C

Applicant: Jaime Morales, Carlsbad, California.

The applicant requests a new permit to take (survey by pursuit) the Quino checkerspot butterfly (Euphydryas editha quino) in conjunction with survey activities throughout the range of the species in California, for the purpose of enhancing the species' survival.

Permit No. TE-14558C

Applicant: Colleen DelVecchio, Ojai, California.

The applicant requests a permit renewal to take (harass by survey, and locate and monitor nests) the California least tern (Sternula antillarum browni) (Sterna a. browni) in conjunction with survey and population monitoring activities throughout the range of the species in California for the purpose of enhancing the species' survival.

Permit No. TE-14560C

Applicant: Lance Woolley, San Diego, California.

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-835365

Applicant: California Department of Water Resources, West Sacramento, California.

The applicant requests a permit renewal and amendment to take (harass by survey, capture, handle, and release) the salt marsh harvest mouse (Reithrodontomys raviventris); take (perform egg mass surveys; and harass by survey, capture, handle, and release) the California tiger salamander (Santa Barbara County and Sonoma County Distinct Population Segment (DPS)) (Ambystoma californiense)); take (harass by survey using taped vocalization) the California Ridgway's rail (California clapper r.) (Rallus obsoletus obsoletus) (R. longirostris o.); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and research activities throughout the range of the species in California for the purpose of enhancing the species' survival.

Permit No. TE-128462

Applicant: Jonathan Feenstra, Altadena, California.

The applicant requests a permit renewal to take (harass by survey) the southwestern willow flycatcher (Empidonax traillii extimus) in conjunction with survey activities throughout the range of the species in California for the purpose of enhancing the species' survival.

Permit No. TE-006559

Applicant: Dale Powell, Riverside, California.

The applicant requests a permit amendment to take (harass by survey, capture, and release) the Casey's June beetle (Dinacoma caseyi); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California, for the purpose of enhancing the species' survival.

Permit No. TE-787376

Applicant: Bloom Biological Inc., Santa Ana, California.

The applicant requests a permit renewal to take (harass by survey, capture, handle, and release) the Pacific pocket mouse (Perognathus longimembris pacificus) and the arroyo toad (arroyo southwestern) (Anaxyrus californicus); take (harass by performing predator management activities) the California least tern (Sternula antillarum browni) (Sterna a. browni); take (harass by survey, locate and monitor nests, capture, handle, measure, weigh, band, color-band, and release) the southwestern willow flycatcher (Empidonax traillii extimus); and take (harass by survey, locate and monitor nests, remove brown-headed cowbird (Molothrus ater) eggs and chicks from parasitized vireo nests; capture, measure, weigh, band, color-band, and release) least Bell's vireo (Vireo bellii pusillus) in conjunction with survey, population monitoring, and scientific research activities throughout the range of the species in California for the purpose of enhancing the species' survival.

Permit No. TE-14587C

Applicant: Andrew McGuirk, Rocklin, California.

The applicant requests a new permit to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-036499

Applicant: Golden Gate National Recreation Area, San Francisco, California.

The applicant requests a permit renewal and amendment to take (harass by survey, capture, handle, collect voucher specimens, and release) the tidewater goby (Eucyclogobius newberryi), and California freshwater shrimp (Syncaris pacifica); take (harass by survey, capture, handle, and release) the San Francisco garter snake (Thamnophis sirtalis tetrataenia); take (harass by survey and pursuit) the mission blue butterfly (Icaricia icarioides missionensis) and San Bruno elfin butterfly (Callophrys mossii bayensis); and remove/reduce to possession from lands under Federal jurisdiction Arctostaphylos montana subsp. ravenii (=A. hookeri subsp. ravenii) (Raven's manzanita), Suaeda californica (California seablite), Clarkia franciscana (Presidio clarkia), Lessingia germanorum (=L.g. var. germanorum) (San Francisco lessingia), Hesperolinon congestum (Marin dwarf flax), Potentilla hickmanii (Hickman's potentilla), Arenaria paludicola (marsh sandwort), and Arctostaphylos franciscana (Franciscan manzanita) in conjunction with survey, research, habitat restoration, and invasive species management activities in Marin, San Francisco, and San Mateo Counties in California for the purpose of enhancing the species' survival.

Permit No. TE-14615C

Applicant: Christopher Allen, Bishop, California.

The applicant requests a permit renewal to take (harass by survey) the southwestern willow flycatcher (Empidonax traillii extimus) in conjunction with survey activities in Mono and Inyo Counties in California for the purpose of enhancing the species' survival.

Permit No. TE-27502B

Applicant: Patricia Schuyler, Vista, California.

The applicant requests a new permit to take (survey by pursuit) the Quino checkerspot butterfly (Euphydryas editha quino) in conjunction with survey activities throughout the range of the species in California, for the purpose of enhancing the species' survival.

Permit No. TE-039466

Applicant: U.S. Geological Survey, Idaho Cooperative Fish and Wildlife Research Unit, Moscow, Idaho.

The applicant requests a permit amendment to take (harass by capture, handle, band, attach satellite transmitter, and release) the Yuma Ridgway's rail (Yuma clapper rail) (Rallus obsoletus yumanensis) (R. longirostris y.) in conjunction with surveys and population studies throughout the range of the species in Arizona, California, and Nevada for the purpose of enhancing the species' survival.

Permit No. TE-36118B

Applicant: Callie Amoaku, Escondido, California.

The applicant requests a new permit to take (harass by survey, capture, handle, and release) the Casey's June beetle (Dinacoma caseyi); and take (survey by pursuit) the Quino checkerspot butterfly (Euphydryas editha quino) in conjunction with survey activities throughout the range of the species in California, for the purpose of enhancing the species' survival.

Permit No. TE-181713

Applicant: Cynthia Hartley, Ventura, California.

The applicant requests a permit amendment to take (harass by nest monitoring using trail cameras) the California least tern (Sternula antillarum browni) (Sterna a. browni) in conjunction with survey and population monitoring activities throughout the range of the species in California for the purpose of enhancing the species' survival.

Permit No. TE-799568

Applicant: Dana Kamada, San Clemente, California.

The applicant requests a permit renewal to take (survey by pursuit) the Quino checkerspot butterfly (Euphydryas editha quino); take (harass by survey, locate and monitor nests, remove brown-headed cowbird (Molothrus ater) eggs and chicks from parasitized nests; capture, measure, weigh, band, color-band, and release) the southwestern willow flycatcher (Empidonax traillii extimus); take (locate and monitor nests, remove brown-headed cowbird (Molothrus ater) eggs and chicks from parasitized vireo nests; capture, measure, weigh, band, color-band, and release) the least Bell's vireo (Vireo bellii pusillus) in conjunction with survey, population monitoring, and research activities throughout the range of the species in California for the purpose of enhancing the species' survival.

Permit No. TE-802089

Applicant: Patricia Tatarian, Santa Rosa, California.

The applicant requests a permit renewal to take (harass by survey, capture, handle, mark, PIT-tag, implant radio transmitters, collect tissue for genetic analysis, collect voucher specimens, and release) the California tiger salamander (Santa Barbara County and Sonoma County Distinct Population Segment (DPS)) (Ambystoma californiense) in conjunction with survey and research activities throughout the range of the species in California for the purpose of enhancing the species' survival.

Permit No. TE-14831C

Applicant: Orange County Zoo, Orange, California.

The applicant requests a new permit to take (acquire, care for, and educationally exhibit non-releasable individuals) the San Joaquin kit fox (Vulpes macrotis mutica), giant kangaroo rat (Dipodomys ingens), arroyo toad (arroyo southwestern) (Anaxyrus californicus), and Mexican wolf (Canis lupus ssp. baileyi) in conjunction with general husbandry of the acquired specimens at the Orange County Zoo in Orange, California, for the purpose of enhancing the species' survival.

Permit No. TE-13632B

Applicant: Elena Gregg, Chico, California.

The applicant requests a new permit to take (harass by survey, capture, handle, release, collect vouchers, and collect branchiopod cysts) the Conservancy fairy shrimp (Branchinecta conservatio), longhorn fairy shrimp (Branchinecta longiantenna), and vernal pool tadpole shrimp (Lepidurus packardi) in conjunction with survey activities throughout the range of the species in California for the purpose of enhancing the species' survival.

Permit No. TE-79192A

Applicant: Dallas Pugh, San Diego, California.

The applicant requests a permit renewal to take (survey by pursuit) the Quino checkerspot butterfly (Euphydryas editha quino) in conjunction with survey activities throughout the range of the species in California, for the purpose of enhancing the species' survival.

Permit No. TE-097516

Applicant: Thomas Ryan, Monrovia, California.

The applicant requests a permit amendment to take (harass by attaching global positioning system (gps) tags) the California least tern (Sternula antillarum browni) (Sterna a. browni) in conjunction with telemetry and scientific research activities throughout the range of the species in California for the purpose of enhancing the species' survival.

Permit No. TE-96471A

Applicant: Mason Holmes, San Ramon, California.

The applicant requests a permit renewal to take (harass by survey, capture, handle, and release) the California tiger salamander (Santa Barbara County and Sonoma County Distinct Population Segment (DPS)) (Ambystoma californiense) in conjunction with survey activities throughout the range of the species in California for the purpose of enhancing the species' survival.

Permit No. TE-14862C

Applicant: Joseph Vu, Westminster, California.

The applicant requests a new permit to take (locate and monitor nests) the least Bell's vireo (Vireo bellii pusillus) in conjunction with survey and population monitoring activities throughout the range of the species in California for the purpose of enhancing the species' survival.

Permit No. TE-796284

Applicant: David Rogers, Lawrence, Kansas.

The applicant requests a permit renewal to take (harass by survey, capture, handle, measure, and release) the Morro shoulderband snail (Banded dune) (Helminthoglypta walkeriana) and California freshwater shrimp (Syncaris pacifica); and take (harass by survey, capture, handle, release, collect adult vouchers, collect branchiopod cysts, retain in captivity, propagate, process soil, microscopically identify eggs/cysts; and perform hatching experiments for species identifications) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey and research activities throughout the range of the species for the purpose of enhancing the species' survival.

Permit No. TE-776608

Applicant: Monk and Associates, Inc., Walnut Creek, California.

The applicant requests a permit renewal to take (harass by survey, capture, handle, measure, mark, and release) the salt marsh harvest mouse (Reithrodontomys raviventris); take (harass by survey, capture, handle, collect tissue samples for genetic analysis, collect voucher specimens, and release) the California tiger salamander (Santa Barbara County and Sonoma County Distinct Population Segment (DPS)) (Ambystoma californiense)); and take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey, research, and population monitoring activities throughout the range of the species in California for the purpose of enhancing the species' survival.

Permit No. TE-094642

Applicant: Howard Shaffer, Los Angeles, California.

The applicant requests a permit renewal and amendment to take (harass by survey; capture; handle; mark; insert passive integrated transponder (PIT) tags; swab for disease; release; relocate; collect eggs and tissue or small individuals for genetic analysis; sacrifice/remove from the wild for voucher specimens; captive rear; conduct stomach flushing for a diet study; and conduct instructional workshops involving field survey methods) the California tiger salamander (Santa Barbara County and Sonoma County Distinct Population Segment (DPS)) (Ambystoma californiense); take (harass by survey; capture, handle; mark and release; relocate; collect eggs and tissue or small individuals for genetic analysis; sacrifice/remove from the wild for voucher specimens) the Santa Cruz long-toed salamander (Ambystoma macrodactylum croceum); and take (harass by survey, capture, handle, release, collect vouchers, and collect branchiopod cysts) the Conservancy fairy shrimp (Branchinecta conservatio) in conjunction with survey, population monitoring, and research activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2017-00285 Filed 1-9-17; 8:45 am]

BILLING CODE 4333-15-P